DEPARTMENT OF TRANSPORTATION

Federal Aviation Administration

14 CFR Part 39

[Docket No. 2001-NM-07-AD; Amendment 39-12632; AD 2002-02-04]

RIN 2120-AA64

Airworthiness Directives; Boeing Model 757 Series Airplanes

AGENCY: Federal Aviation Administration, DOT.

ACTION: Final rule.

SUMMARY: This amendment adopts a new airworthiness directive (AD), applicable to certain Boeing Model 757 series airplanes, that requires a one-time inspection of a wire bundle in the left wing front spar for chafing and for proper installation of a Teflon sleeve; corrective action, if necessary; and installation of extra protection against chafing. This action is necessary to prevent chafing between the wire bundle and the left wing front spar, which could result in electrical arcing and subsequent ignition of flammable vapors and possible uncontrollable fire. This action is intended to address the identified unsafe condition.

DATES: Effective March 19, 2002.

The incorporation by reference of certain publications listed in the regulations is approved by the Director of the Federal Register as of March 19, 2002.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: John Vann, Aerospace Engineer, Propulsion Branch, ANM-140S, FAA, Seattle Aircraft Certification Office, 1601 Lind Avenue, SW., Renton, Washington 98055-4056; telephone (425) 227-1024; fax (425) 227-1181.

SUPPLEMENTARY INFORMATION: A proposal to amend part 39 of the Federal Aviation Regulations (14 CFR part 39) to include an airworthiness directive (AD) that is applicable to certain Boeing Model 757 series airplanes was published in the Federal Register on August 23, 2001 (66 FR 44323). That action proposed to require a one-time inspection of a wire bundle in the left wing front spar for chafing and for proper installation of a Teflon sleeve; corrective action, if necessary; and installation of extra protection against chafing.

Comments

Interested persons have been afforded an opportunity to participate in the making of this amendment. Due consideration has been given to the single comment received.

Give Credit for Accomplishment of Related Service Letters

One commenter requests that the FAA revise the proposed AD to give credit to operators who have accomplished the actions specified in the proposed AD in accordance with service information other than that identified in the proposed AD. The commenter notes that Boeing Service Letters 757-SL-29-024-B, dated November 3, 1995, and 757-SL-29-024-C, dated June 13, 2000, also address the unsafe condition identified in the proposed AD. The commenter further states that it has inspected its affected airplanes in accordance with Boeing Service Letter 757-SL-29-024-C.

The FAA concurs with the commenter's request. We find that the procedures in the service letters referenced by the commenter are nearly identical to those in Boeing Service Bulletins 757-29-0058 and 757-29-0059, both dated November 9, 2000, which the proposed AD identifies as appropriate sources of service information. Therefore, we have added a new Note 2, and renumbered subsequent notes from the proposed AD accordingly, to give credit for actions accomplished before the effective date of this AD in accordance with Boeing Service Letter 757-SL-29-024-B or 757-SL-29-024-C.

Conclusion

After careful review of the available data, including the comment noted above, the FAA has determined that air safety and the public interest require the adoption of the rule with the change previously described. The FAA has determined that this change will neither increase the economic burden on any operator nor increase the scope of the AD.

Cost Impact

There are approximately 1,058 Model 757 series airplanes of the affected design in the worldwide fleet. The FAA estimates that 615 airplanes of U.S. registry will be affected by this AD, that it will take approximately 1 work hour per airplane to accomplish the required actions, and that the average labor rate is $60 per work hour. The cost of required parts is negligible. Based on these figures, the cost impact of this AD on U.S. operators is estimated to be $36,900, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-02-04 Boeing: Amendment 39-12632. Docket 2001-NM-07-AD.

Applicability: Model 757 series airplanes, certificated in any category, as listed in Boeing Service Bulletins 757-29-0058 and 757-29-0059, both dated November 9, 2000.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent chafing between the wire bundle and the left wing front spar, which could result in electrical arcing and subsequent ignition of flammable vapors and possible uncontrollable fire, accomplish the following:

Compliance Time

(a) Within 6 months from the effective date of this AD, perform the actions specified in paragraphs (a)(1), (a)(2), and (a)(3) of this AD, in accordance with Boeing Service Bulletin 757-29-0058, dated November 9, 2000 (for Model 757-200 series airplanes); or Boeing Service Bulletin 757-29-0059, also dated November 9, 2000 (for Model 757-300 series airplanes); as applicable.

Note 2: Inspections, repairs, and installations accomplished before the effective date of this AD in accordance with Boeing Service Letter 757-SL-29-024-B, dated November 3, 1995, or 757-SL-29-024-C, dated June 13, 2000, are acceptable for compliance with the applicable action specified in this AD.

Inspection and Corrective Action

(1) Perform a detailed visual inspection of the wire bundle, part number (P/N) W5100, adjacent to front spar station 318.99 in the left wing leading edge, to detect chafing. If any damage is found, before further flight, repair the wire bundle.

Note 3: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Modification

(2) Install a caterpillar grommet to the edge of the spar lower chord in the left wing leading edge.

Inspection and Corrective Action

(3) Perform a general visual inspection for proper installation of perforated Teflon sleeving on the wire bundle, P/N W5100. If sleeving does not exist or is not covering the area from 1.0 inch beyond the clamp point to 3.0 inches below the spar flange edge, before further flight, install or repair the Teflon sleeving.

Note 4: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Note 5: An optional 0.5-inch spacer may be used in accordance with the applicable service bulletin above, Section 3, Accomplishment Instructions, Work Instructions, to prevent the wire bundle from contacting the lower chord of the front spar on the left wing.

Reporting

(b) If the Teflon sleeving is found missing or improperly installed during the inspection required in paragraph (a)(3) of this AD, submit a report of inspection findings to the Manager, Seattle Aircraft Certification Office (ACO), FAA, 1601 Lind Avenue, SW., Renton, Washington 98055-4056; fax (425) 227-1181; at the applicable time specified in paragraph (b)(1) or (b)(2) of this AD. The report must include the inspection results, a description of any discrepancies found, the airplane serial number, and the number of landings and flight hours on the airplane. Information collection requirements contained in this AD have been approved by the Office of Management and Budget (OMB) under the provisions of the Paperwork Reduction Act of 1980 (44 U.S.C. 3501 et seq.) and have been assigned OMB Control Number 2120-0056.

(1) For airplanes on which the inspection is accomplished after the effective date of this AD: Submit the report within 30 days after performing the inspection required by paragraph (a)(3) of this AD.

(2) For airplanes on which the inspection specified in paragraph (a)(3) has been accomplished prior to the effective date of this AD: Submit the report within 30 days after the effective date of this AD.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 6: Information concerning the existence of approved alternative methods of compliance with this AD, if any, may be obtained from the Seattle ACO.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with Boeing Service Bulletin 757-29-0058, dated November 9, 2000; or Boeing Service Bulletin 757-29-0059, dated November 9, 2000; as applicable. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on March 19, 2002.

Issued in Renton, Washington, on January 30, 2002.
Ali Bahrami,
Acting Manager, Transport Airplane Directorate, Aircraft Certification Service.

[FR Doc. 02-2925 Filed 2-11-02; 8:45 am]

BILLING CODE 4910-13-P